DEPARTMENT OF HEALTH AND HUMAN SERVICES

Substance Abuse and Mental Health Services Administration

Fiscal Year (FY) 2013 Funding Opportunity

AGENCY: Substance Abuse and Mental Health Services Administration, HHS.

ACTION: Notice of intent to award a Single Source Grant to Link2Health Solutions, Inc.

SUMMARY: This notice is to inform the public that the Substance Abuse and Mental Health Services Administration (SAMHSA) intends to award approximately $200,000 (total costs) for up to one year to Link2Health Solutions, Inc. the current grantee for the National Suicide Prevention Lifeline. This is not a formal request for applications. Assistance will be provided only to Link2Health Solutions, Inc based on the receipt of a satisfactory application that is approved by an independent review group.

Funding Opportunity Title: SM-13-012.

Catalog Of Federal Domestic Assistance (CFDA) Number: 93.243.

Authority: Section 520A of the Public Health Service Act, as amended.

Justification: Only an application from Link2Health Solutions will be considered for funding under this announcement. It is considered most cost-effective and efficient to supplement the existing grantee for the National Suicide Prevention Lifeline and to build on the existing capacity and infrastructure.

Link2Health Solutions is in the unique position to carry out the activities of this grant announcement because it is the current recipient of SAMHSA's cooperative agreement to manage the National Suicide Prevention Lifeline. The purpose of this program is to manage, enhance, and strengthen the National Suicide Prevention Lifeline (referred to as the Lifeline). Supplemental funding is being provided for the National Suicide Prevention Lifeline as a result of increased need for services through non-traditional telephonic means (e.g. chat and text-based intervention services). Priorities and awareness raising activities will also be directed towards ensuring that the prevention needs of diverse populations will be addressed.

Contact: Cathy Friedman, Substance Abuse and Mental Health Services Administration, 1 Choke Cherry Road, Room 8-1097, Rockville, MD 20857; Telephone: (240) 276-2316; Email: cathy.friedman@samhsa.hhs.gov.

Cathy J. Friedman,
Public Health Analyst, SAMHSA.

[FR Doc. 2013-17269 Filed 7-18-13; 8:45 am]

BILLING CODE 4162-20-P